DEPARTMENT OF THE INTERIOR

National Park Service

[NPS-WASO-NRNHL-DTS#-28760; PPWOCRADI0, PCU00RP14.R50000]

National Register of Historic Places; Notification of Pending Nominations and Related Actions

AGENCY: National Park Service, Interior.

ACTION: Notice.

SUMMARY: The National Park Service is soliciting comments on the significance of properties nominated before August 17, 2019, for listing or related actions in the National Register of Historic Places.

DATES: Comments should be submitted by September 30, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before August 17, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARKANSAS

Conway County

Community Mausoleum, Elmwood Cemetery, 1148 W Church St., Morrilton, SG100004436

Elmwood Cemetery Historic Section, W of AR 113 and W. Church St. intersection, Morrilton, SG100004438

Point Remove Creek Bridge, Old Arkansas Highway over Point Remove Creek, Morrilton, SG100004442

Lonoke County

Dairyman's Bank Building, 124 W Main St., Carlisle, SG100004439

Bransford, J.M., House, 506 S Center St., Lonoke, SG100004440

Madison County

Faubus, Orval E., House (Arkansas Designs of E. Fay Jones MPS), 640 Governors Rd., Huntsville, MP100004443

Phillips County

Grey, William H., Gravesite, 108 Wire St., Helena-West Helena, SG100004441

Pulaski County

Magnolia Service Station, 3023 W 7th St., Little Rock, SG100004434

Scott County

Waldron School Historic District, 403 and 429 W 5th St., Waldron, SG100004437

Washington County

Tweedy-Punch House, 1411 W Emma Ave., Springdale, SG100004435

ILLINOIS

Rock Island County

Downtown Rock Island Historic District, Roughly bound by Iowa state line, 21st St., 15th St., and 5th Ave., Rock Island, SG100004433

IOWA

Cherokee County

Gillette, Guy M. and Rose (Freeman), House, 111 N 11th St., Cherokee, SG100004427

Boughton, Lemuel C. and Mary (Vaughn), House, 736 W Cedar St., Cherokee, SG100004428

Seaman, Roy C. and Lena (Johnson), House, 400 Magnetic Ave., Cherokee, SG100004429

Wayne County

Hotel Rea, 207 W State St., Corydon, SG100004426

KANSAS

Butler County

Walnut River Crossing of the Cherokee/Fayetteville Oregon-California Trail, Address Restricted, El Dorado, SG100004457

Clark County

Hodson Hotel, 712 Main St., Ashland, SG100004456

Douglas County

Henry, William, House, 344 N 1925 Rd., Lecompton, SG100004448

Star Cash Grocery Store and Residence, 696 E1719 Rd., Baldwin City, SG100004449

Greenwood County

Eureka Downtown Historic District, 100-200 blks. N Main and N/2 100 blk. S Main to Elm and Oak at 3rd to 4th Sts., Eureka, SG100004458

Riley County

Hartford House, 2309 Clafin Rd., Manhattan, SG100004452

Avalon, The, 417 Fremont St., Manhattan, SG100004453

Sedgwick County

Innes Department Store, 220-230 E William St., Wichita, SG100004454

Vickers Petroleum Service Station (Roadside Kansas MPS), 140 N Main St., Haysville, MP100004455

Shawnee County

Fire Station No. 4, 813 SW Clay St., Topeka, SG100004450

St. Mark's African Methodist Episcopal Church, 801 NW Harrison Ave., Topeka, SG100004451

KENTUCKY

Jefferson County

Butchertown Historic District, Roughly bounded by Main, Hancock, Geiger, Quincy Sts., US 42, S Fort Beargrass Creek, and Baxter Ave., Louisville, BC100004421

MAINE

Cumberland County

Greene Cottage, 516 Basin Point Rd., Harpswell, SG100004472

Hancock County

Sound Schoolhouse, 373 Sound Drive, Mount Desert, SG100004469

Oxford County

Camp Cinnamon, 37 Camp Cinnamon Rd., Norway, SG100004470

Sagadahoc County

MARY E. (schooner), 271 Washington St., Bath, SG100004471

SOUTH CAROLINA

Fairfield County

Mt. Zion Institute High School, 250 N Walnut St., Winnsboro, SG100004445

Greenville County

Greer Downtown Historic District (Boundary Increase and Boundary Decrease), Roughly along Trade St., E Poinsett St., and N Main St., Greer, BC100004447

TEXAS

Cameron County

Brownsville City Hall and Market House, 1150 Market Square, Brownsville, SG100004474

Denton County

Fairhaven Retirement Home, 2400 N Bell Ave., Denton, SG100004431

UTAH

Davis County

Kaysville City Hall, 44 N Main St., Kaysville, SG100004476

Salt Lake County

Huetter, Alfred and Hennie, House (Murray City, Utah MPS), 187 E 5600 South, Murray, MP100004477

Rowan, Matthew and Johanna, House (Murray City, Utah MPS), 198 W Winchester St., Murray, MP100004478

Smith, Ray F. and Ethel, House (Murray City, Utah MPS), 1697 E Vine St., Murray, MP100004479

Eagles Building, 404 S West Temple St., Salt Lake City, SG100004480

Sanpete County

Ephraim Relief Society Granary, 86 N Main St., Ephraim, SG100004481

Candland, W.D., House, 123 North 100 West, Mt. Pleasant, SG100004482

Summit County

Park City Main Street Historic District, Main St., Park City, BC100004484

Tooele County

Clegg, Peter, House, 8 South 100 East, Tooele, SG100004483

WASHINGTON

King County

Knights of Columbus Hall—Council No. 676, 722 E Union St., Seattle, SG100004459

Eng, Jim and Betty, House, 8310 Beacon Ave. S, Seattle, SG100004460

Kittitas County

Downtown Ellensburg Historic District, Roughly bounded by 6th Ave., 2nd Ave., Ruby St., and Water St., Ellensburg, BC100004461

WISCONSIN

Fond Du Lac County

Waupun Commercial Historic District, Roughly bounded by E. Franklin St., Carrington St., E Jefferson St., and Forest St., Waupun, SG100004468

WYOMING

Campbell County

Gillette City Hall (1936), 400 S Gillette Ave., Gillette, SG100004422

Fremont County

Amoretti, Welty, Helmer & Co Bank, 111 W Ramshorn St., Dubois, SG100004423

An owner objection received for the following resource:

IOWA

Johnson County

Clinton Street and Railroad Depot Historic District, 530-624 S Clinton St.; 109-113 E Prentiss St.; 109 Wright St., Iowa City, SG100004430

A request for removal has been made for the following resources:

ARKANSAS

Craighead County

Stuck, C.S. & Sons, Lumber Office Building, 215 Union, Jonesboro, OT100002450

Hempstead County

Foster House (Thompson, Charles L., Design Collection TR), 303 N Hervey St., Hope, OT82000825

Nevada County

Allen Tire Company and Gas Station (Arkansas Highway History and Architecture MPS), 228 1st St., SW, Prescott, OT01000523

Yell County

Petit Jean River Bridge (Historic Bridges of Arkansas MPS), Co. Rd. 49 over the Petit Jean River, Ola vicinity, OT09001263

Additional documentation has been received for the following resources:

ARIZONA

Maricopa County

University Park Historic District, Bounded by 13th St., Forest Ave., alley between Apache Blvd. & 14th St., McAllister Ave., Union Pacific RR & Mill Ave., Tempe, AD07001174

KENTUCKY

Jefferson County

Butchertown Historic District, Roughly bounded by Main, Hancock, Geiger, Quincy Sts., US 42, S Fort Beargrass Creek, and Baxter Ave., Louisville, AD76000900

MAINE

Sagadahoc County

Hathorn, Lt. Richard, House, ME 127, Woolwich, AD80000251

SOUTH CAROLINA

Greenville County

East Park Historic District, Roughly bounded by East Park Ave., Bennett St., Harcourt Dr., and Rowley St., Greenville, AD05001157

VIRGINIA

Danville Independent city, Downtown Danville Historic District, Roughly bounded by Memorial Dr. and High, Patton and Ridge Sts., Danville (Independent City), AD93000830

WASHINGTON

Kittitas County

Downtown Ellensburg Historic District, Roughly bounded by 6th. Ave., 2nd Ave., Ruby St., Water St., Ellensburg, AD77001341

Authority: Section 60.13 of 36 CFR part 60.

Dated: August 19, 2019.
Julie H. Ernstein,
Supervisory Archeologist, National Register & National Historic Landmarks Program.

[FR Doc. 2019-19818 Filed 9-12-19; 8:45 am]

BILLING CODE 4312-52-P